DEPARTMENT OF HEALTH AND HUMAN SERVICES

Centers for Disease Control and Prevention

[30Day-13-0128]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Congenital Syphilis Case Investigation and Reporting Form (CDC73.126), OMB 0920-0128, Expiration 03/31/2013—Revision—National Center for HIV, Viral Hepatitis, STD and TB Prevention (NCHHSTP), Centers for Disease Control and Prevention (CDC).

Background and Brief Description

Congenital syphilis (CS) is an important sentinel health event that marks potential problems in both prenatal care and syphilis prevention programs. Congenital syphilis (CS) is nearly 100% preventable by early detection and treatment of syphilis in pregnant women before or during pregnancy.

Reducing congenital syphilis is a national objective in the U.S. Department of Health and Human Services report entitled, “Healthy People 2020”.

The CDC continues to collect and report information on congenital syphilis morbidity as part of its ongoing Sexually Transmitted Disease (STD) surveillance efforts. A reporting form for congenital syphilis (CDC Form 73.126) was initiated in 1983 to improve detection, case management, and treatment of congenital syphilis cases. Continued data collection will assist in identifying needs for congenital syphilis prevention efforts nationwide.

The current CS reporting form was revised and approved by OMB in 2009 to collect information based on the surveillance case definition and removal of Reporting city information. It is being used by all health jurisdictions reporting CS to CDC as part of the National Notifiable Diseases Surveillance. For the new approval period, CDC requests elimination of the field “Did the infant/child have an IgM-specific treponemal test?” This data element is no longer required because treponemal IgM technologies, for the purpose of identifying CS in an infant, are highly insensitive. CDC also requests elimination of infant gender because gender does not influence the case definition or define risk. The following fields have been added: “Mothers obstetric history”, “Did mother have treponemal test result: If so, when was the test performed?” “What stage of syphilis did mother have?”, “Date of Mother's treatment”, “What was mother's treatment?” “What clinical and what surveillance stage of syphilis did the mother have during pregnancy” “Presumptive has been replaced with probable,” as there is no case definition for presumptive congenital syphilis and, “Mother's HIV status during pregnancy”.

The congenital syphilis data will continue to be used to develop intervention strategies and to evaluate ongoing control efforts. There is no cost to respondents other than their time. The total estimated annual burden hours are 62.

Estimate of Annualized Burden Table
Types of respondent | Form name | Number of respondents | Number of responses per respondent | Average burden per response (in hours)
State Health Departments | Congenital Syphilis (CS) Case Investigation and Report | 10 | 11 | 20/60
Territorial Health Agencies | Congenital Syphilis (CS) Case Investigation and Report | 3 | 11 | 20/60
City and county health departments | Congenital Syphilis (CS) Case Investigation and Report | 4 | 11 | 20/60

Dated: December 4, 2012.
Ron A. Otten,
Director, Office of Scientific Integrity (OSI), Office of the Associate Director for Science (OADS), Office of the Director, Centers for Disease Control and Prevention.

[FR Doc. 2012-29723 Filed 12-7-12; 8:45 am]

BILLING CODE 4163-18-P